DEPARTMENT OF AGRICULTURE

Forest Service

Andrew Pickens Ranger District; South Carolina; AP Loblolly Pine Removal and Restoration Project

AGENCY: Forest Service, USDA.

ACTION: Notice of intent to prepare an environmental impact statement.

SUMMARY: The AP Loblolly Pine Removal and Restoration Project is a district-wide project that includes 40 compartments located across the Andrew Pickens Ranger District, Sumter National Forest in Oconee County, South Carolina. Loblolly pine is a southern pine species that is not native to mountain regions in the upstate. This species was planted extensively in plantations across the district in the past, primarily in an effort to increase pine productivity for timber products. Most of the plantations have suffered from insect and disease related mortality such as southern pine beetle and need to be restored to native hardwoods and pines and understory plants more typical of the Chattooga River and Blue Ridge Mountains and Foothills (Management Area 2 and 3, respectively). Also, habitat diversity would be improved by developing and maintaining early successional habitat capable of supporting existing native and other desired non-native plants (including the federally endangered smooth coneflower, Echinacea laevigata) and wildlife species. This habitat would be maintained with herbicide, prescribed fire and also manual and mechanical treatment. Woodlands are forests with relatively low tree densities of 25-60% forest cover with understories that are dominated by native grasses and forbs. Five stands within the project area would be developed and maintained as woodland habitat (202 acres).

DATES: Comments concerning the scope of the analysis must be received by April 7, 2010. The draft environmental impact statement is expected by July 2010 and the final environmental impact statement is expected by November 2010.

ADDRESSES: Send written comments to USDA Forest Service, 112 Andrew Pickens Circle, Mountain Rest, SC 29664. Comments may also be sent via e-mail to comments-southern-francismarion-sumter-andrewpickens@fs.fed.us, or via facsimile to 864-638-2659.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Michael B. Crane (mcrane@fs.fed.us) and/or Nelson Gonzalez-Sullow (nelsongonzalez@fs.fed.us), 864-638-9568.

Individuals who use telecommunication devices for the deaf (TDD) may call the Federal Information Relay Service (FIRS) at 1-800-877-8339 between 8 a.m. and 8 p.m., Eastern Time, Monday through Friday.

Purpose and Need for Action

The district has approximately 5,600 acres of planted loblolly pine stands. All of this acreage consists of relatively pure pine stands with little to no native hardwood and pines growing in the upper canopy. A number of stands in the compartments were converted to pine plantations 30 to 40 years ago by clear cutting more diverse stands and planting them to loblolly pine (Pinus taeda) after intensive site preparation treatments. Few hardwood trees exist in the overstory of most of these stands and hardwood sprouts and saplings abound in the understory. Some of the stands proposed for treatment have been heavily impacted by southern pine beetle (SPB) with the most recent epidemics occurring in 2002 and 2003. Mortality was widespread across the district in pine plantations. Other stands are sparse due to poor planting success or to past logging that did not remove all of the loblolly pine. The density of trees in these stands range from sparse to a dense stocking basal area of 160 square feet per acre and greater. With a lack of disturbance, these plantations are dominated by shade tolerant tree species such as red maple, black gum, dogwood, and sourwood. The lack of early successional habitat is a limiting factor on the Andrew Pickens Ranger District. The endangered plant, smooth coneflower has been limited in its distribution as a result of lack of disturbance and growth of shade tolerant species. The species is known to occur adjacent to several loblolly stands. Plant surveys have identified current locations of the plant and potential habitat areas have been identified. There is an opportunity to promote the expansion and establishment of this species in some of the proposed treatment areas. The Sumter National Forest proposed endangered, threatened and sensitive species (PETS) list includes several other species that require open stand conditions to thrive. These species generally have been restricted to roadsides and utility rights-of-way (ROWs) because of the lack of disturbance on these sites.

Woodlands provide habitat for a variety of disturbance-dependent, early successional game and nongame wildlife species in all stages of their lifecycles. Populations of early successional bird species, such as northern bobwhite quail, ruffed grouse, field sparrow, and golden-winged warbler, have been declining on the Sumter National Forest because of a lack of suitable habitat. Woodlands also provide open stand conditions with ample sunlight and disturbance conditions conducive to certain plants including the federally endangered smooth coneflower.

The AP Loblolly Pine Removal and Restoration Project is located on four management prescription areas:

Management area | Designation
4F | Scenic Areas.
7.E.2 | Dispersed Recreation Areas with Vegetation Management.
8.A.1 | Mix of Successional Forest Habitats.
11 | Riparian Corridors.

The purpose and need for this project is to restore the current landscape condition within the area to more native forest vegetation. Native vegetation would improve ecosystem health, increase habitat diversity and viability of a variety of plant and animal species in the long term.

The off-site loblolly pine stands would be replaced with native tree species appropriate for the habitat such as shortleaf pine, pitch pine, and table mountain pine. A blight resistant American chestnut (once native to this area) would also be planted depending on suitable habitats and site conditions as well as species availability for planting.

Prescribed burning, manual, mechanical, and herbicide treatments would be used to reduce woody competition and help establish desired native plant communities including smooth coneflower. Woodlands would also be maintained to provide desirable habitat for native plants and animal species as well as add to habitat diversity.

Woodlands are forests with relatively low tree densities of 25-60% forest cover with understories that are dominated by native grasses and forbs. Management that promotes this native forest vegetation would serve a multitude of resources, such as to enhance hard mast production favorable to wildlife or to improve forest and watershed health with a variety of resilient native species that would be typically found on these sites. Additionally, moving from a plantation-type stand to one of more natural composition would serve to increase both structural and spatial vegetative diversity, create early successional habitat, reduce the potential for further impacts from southern pine beetles and reduce fire risk and safety hazards from dead loblolly pine trees. By managing some of these stands as early successional habitat, smooth coneflower would expand into these areas.

Proposed Action

The Andrew Pickens Ranger District proposes the following treatments:

Regeneration Harvest, With Reserves (Cut-and-Remove—3,679 Acres)

Timber harvesting would occur in timber stands where operable volumes now exist. This would include establishing log landings and loading areas, skid trails, and would include road access in the form of temporary roads, reconstructed roads, or newly constructed forest system roads. Unmerchantable loblolly and other undesirable species would be cut down by manual (saws, hand tools) or mechanized felling equipment methods after commercial timber harvest concludes. In addition to cutting loblolly pine, harvest would also include Virginia pine, white pine, red maple, yellow poplar and other less desirable hardwoods. Desirable oaks, hickories, shortleaf pine, table mountain pine, and pitch pine would be retained where possible unless removal is necessary for safety or for equipment operability reasons.

Regeneration Harvest, With Reserves (Cut-and-Leave—1,926 Acres)

Loblolly pine stands would be cut down and not removed where log volumes are sparse or too small for a viable commercial sale, or occur in areas inaccessible to logging equipment. Cut and leave treatments would also be used in stands where loblolly pine saplings have come in after previous removal harvests. Cutting methods would include manual methods that use hand tools and chainsaws. Virginia pine and other less desirable species such as, but not limited to, white pine, red maple and yellow poplar may be cut for safety reasons, or to favor desirable residual oaks, hickories, shortleaf pine, table mountain pine and pitch pine.

Additional Treatments

Site Preparation and Release (3,264 Acres) for Reforestation

Site preparation and release treatments for reforestation include stem injection and foliar spray using the herbicide imazapyr and triclopyr that would be used in identified regeneration units.

Stem injections would be applied with hatchets and squirt bottles, or similar application devices, using a mixture of 64 oz water, 64 oz Garlon 3A or equivalent (triclopyr amine) and 6 oz Arsenal AC or equivalent (imazapyr). Stem injection would be applied to target vegetation too large to treat with a foliar spray. This application is made between the first of July and the end of September.

Directed foliar spray would be applied using backpack sprayers. The application is a low volume direct spray where foliage is sprayed or speckled with herbicide. This application is made between the first of July and the end of September. Per gallon of mix water, the herbicide mixture for this application is: 0.5 ounce Arsenal AC or equivalent (imazapyr), 2 ounces of Garlon 4 or equivalent (triclopyr ester), ½ ounce surfactant, and spray pattern indicator.

Herbicide would be used for site preparation to prepare the site for planting trees. Shortleaf pine would be planted on a majority of the sites. Other native species would be planted including, table mountain pine, pitch pine, and a blight resistant strain of American chestnut. Plantings would take advantage of gaps created during timber harvest and from site preparation since desirable overstory trees would be left as reserves in most units. This would result in a two-aged structure to most treated stands. A herbicide crop tree release treatment would be done about 3 to 5 years after trees are planted. The treatment would reduce competition to the desired understory trees so that they could become dominant in the stands. Broadleaf vegetation would be treated to control competition with planted or naturally growing desirable native shortleaf pine, pitch pine, oak, American chestnut and hickory. Exceptions include protecting desirable soft mast and flowering trees.

Reforestation (3,264 Acres)

Native shortleaf pine seedlings would be the major species planted (12 ft. by 12 ft. spacing) but would also include pitch pine, Table Mountain pine and American chestnut where suitable habitat exists and if seed and/or seedlings are available.

Woodland Treatments (202 Acres)

The woodland treatment would remove all loblolly pine and less desirable tree species including but not limited to Virginia pine, white pine, maples, and yellow poplar. Three stands contain enough volume for a commercial timber harvest and two do not. The treatment would include thinning oaks, hickories, and shortleaf pine to a basal area (BA) of 30-40 ft²/acre. All oak, hickory, and shortleaf pine would be left where the BA is currently less than 30-40 ft²/acre.

After initial treatments are completed, the areas would be prescribed burned on a periodic basis (estimated within 1-5 years). Prescribed burning is covered under an existing NEPA decision.

Herbicide, manual, and mechanical methods would be applied to all less desirable tree species (sprouts and seedlings) within 1-2 years after the initial post-harvest prescribed burn. These methods may be applied up to two more times after the initial treatment. Manual and mechanical methods including but not limited to hand tools (chainsaws, brush saws), and/or heavy equipment (tractor with mower, gyro-track) would be used to control sprouts and seedlings of non-desirable tree species to maintain the woodland condition. Mechanical treatments would grind up or masticate undesirable understory vegetation. Three of these stands proposed as woodland treatment would also be managed to benefit smooth coneflower.

Directed foliar spray would be applied using backpack sprayers. The application is a low volume direct spray where foliage is sprayed or speckled. This application is made between the first of July and the end of September. Per gallon of mix water, the herbicide mixture for this application is: 0.5 ounce Arsenal AC or equivalent (imazapyr), 2 ounces of Garlon 4 or equivalent (triclopyr ester), ½ ounce surfactant, and spray pattern indicator.

Connected Actions

The following activities would be conducted in connection with vegetation management activities.

• System Road Construction: Twelve (12) system roads would be built providing access to 20 loblolly timber stands. These new roads are needed to provide access during timber harvest and to provide for long term resource management. These roads are designed by Forest Service engineers to specific standards that include designing drainage structures such as culvert installations, inside slope ditching, road crown specifications, widened turn-around, gates, and signage. Total specified system road construction is estimated at 8.2 miles but may vary once actual design is completed. Information on roads is contained in the road analysis.

• Road Reconstruction and Maintenance: System road reconstruction and maintenance would be needed on approximately 59.2 miles of roads. Reconstruction work would consist of but not be limited to graveling road surfaces, replacing culverts—including replacements for aquatic organism passage, ditch cleaning, removing brush and trees along road rights-of-way, installing, repairing or replacing gates and correcting road safety hazards. Road maintenance would consist of spot gravel replacement, blading, cleaning culverts, light brushing and mowing.

• Temporary Roads: Log landings that have no access to designated roads would be accessed by a temporary road that connects to the forest transportation system. Temporary roads are generally under 10 percent grade and road widths less than 14 feet. Approximately 4.9 miles of temporary roads are needed for access. Most of these would be reopening of former temporary roads that are in suitable locations, but for the most part have stabilized cut and fill slopes that may not be disturbed. Temporary roads would be closed and adequate erosion and stormwater control measures completed and replanted with vegetation.

• Skid Roads: Designated skid roads, some with temporary bridges or other protective measures, may be used to provide access over stream and drainage channels. It is estimated that skid roads would total less than 1.5 miles. They would be closed after use with adequate stormwater and erosion control measures.

• Log Landings: It is estimated that approximately 122 log landings would be needed. Log landings are locations where logs are piled and then loaded onto trucks. Former landings sites would be used whenever appropriate to limit effects. They would be closed after use with adequate stormwater and erosion control measures. To view a map of locations of proposed treatments go to http://www.fs.fed.us/r8/fms/sumter/resources/projects.current.php?p=1.1.7.3.

Responsible Official

Andrew Pickens District Ranger

Nature of Decision To Be Made

Whether or not to implement the action as proposed or an alternative way to achieve the desired outcome.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

February 23, 2010.
Michael B. Crane,
District Ranger.

[FR Doc. 2010-4689 Filed 3-5-10; 8:45 am]

BILLING CODE 3410-11-M